DEPARTMENT OF ENERGY

Federal Energy Regulatory Commission

[Docket No. CP06-277-000]

CenterPoint Energy Gas Transmission Company; Notice of Application

May 31, 2006.

Take notice that on May 10, 2006, CenterPoint Energy Gas Transmission Company (CEGT), 111 Louisiana Street, Houston, Texas 77002-5231, filed in Docket No. CP06-277-000 an application pursuant to section 7(b) of the Natural Gas Act (NGA), as amended, for authorization to abandon, in place and by sale, certain facilities located in Harrison County, Texas and Caddo Parrish, Louisiana. CEGT further requests a finding that certain facilities to be sold to Waskom Gas Processing Company (Waskom Gas), would be exempt from the Commission's jurisdiction, all as more fully set forth in the application which is on file with the Commission and open to public inspection. This filing may also be viewed on the Commission's Web site at http://www.ferc.gov using the “eLibrary” link. Enter the docket number, excluding the last three digits, in the docket number field to access the document. For assistance, call (202) 502-8659 or TTY, (202) 208-3676.

Specifically, CEGT proposes to abandon its Line F-1-F and appurtenant facilities, two compressor units located at its Buckley Compressor Station. In addition, in conjunction with the proposed abandonment of Line F-1-F, CEGT proposes to sell an approximately 13 mile segment of Line F-1-F to Waskom Gas to be used to gather natural gas into Waskom Gas' plant.

Any questions regarding this application should be directed to Lawrence O. Thomas, Director—Rates & Regulatory, CenterPoint Energy Gas Transmission Company, P.O. Box 21734, Shreveport, Louisiana 71151, or call (318) 429-2804.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments protests and interventions via the Internet in lieu of paper. See 18 CFR 385.2001(a)(1)(iii) and the instructions on the Commission's Web (http://www.ferc.gov) site under the “e-Filing” link.

Comment Date: June 21, 2006.

Magalie R. Salas,
Secretary.

[FR Doc. E6-8746 Filed 6-5-06; 8:45 am]

BILLING CODE 6717-01-P